DEPARTMENT OF HOMELAND SECURITY

Federal Emergency Management Agency

44 CFR Part 65

[Docket ID FEMA-2010-0003; Internal Agency Docket No. FEMA-B-1099]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Pima | Town of Oro Valley (08-09-1800P) | December 11, 2009, December 18, 2009, Daily Territorial | The Honorable Paul H. Loomis, Mayor, Town of Oro Valley, 11000 North La Canada Drive, Oro Valley, AZ 85737 | April 19, 2010 | 040109
Pima | City of Tucson (09-09-0492P) | December 9, 2009, December 16, 2009, Arizona Daily Star | The Honorable Bob Walkup, Mayor, City of Tucson, P.O. Box 27210, Tucson, AZ 85726 | April 15, 2010 | 040076
Arkansas:
St. Francis | City of Forrest City (09-06-1699P) | December 9, 2009, December 16, 2009, Forrest City Times-Herald | The Honorable Gordon McCoy, Mayor, City of Forrest City, 224 North Rosser Street, Forrest City, AR 72335 | April 15, 2010 | 050187
St. Francis | Unincorporated areas of St. Francis County (09-06-1699P) | December 9, 2009, December 16, 2009, Forrest City Times-Herald | The Honorable Gary Hughes, Judge, St. Francis County, 313 South Izard Street, Forrest City, AR 72335 | April 15, 2010 | 050184
California: Contra Costa | City of Concord (09-09-1576P) | December 4, 2009, December 11, 2009, Contra Costa Times | The Honorable Laura M. Hoffmeister, Mayor, City of Concord, 1950 Parkside Drive, MS/01, Concord, CA 94519 | April 12, 2010 | 065022
Colorado: El Paso | City of Colorado Springs (09-08-0730P) | December 23, 2009, December 30, 2009, The Gazette | The Honorable Lionel Rivera, Mayor, City of Colorado Springs, P.O. Box 1575, Colorado Springs, CO 80901 | April 29, 2010 | 080060
Florida: Sarasota | City of Sarasota (09-04-6869P) | December 9, 2009, December 16, 2009, Sarasota Herald-Tribune | The Honorable Richard Clapp, Mayor, City of Sarasota, 1565 1st Street, Room 101, Sarasota, FL 34236 | April 15, 2010 | 125150
Idaho:
Canyon | Unincorporated areas of Canyon County (09-10-0166P) | December 3, 2009, December 10, 2009, Idaho Press-Tribune | The Honorable Kathryn Alder, Chairperson, Canyon County Board of Commissioners, 1115 Albany Street, Caldwell, ID 83605 | December 29, 2009 | 160208
Canyon | City of Nampa (09-10-0166P) | December 3, 2009, December 10, 2009, Idaho Press-Tribune | The Honorable Tom Dale, Mayor, City of Nampa, 411 3rd Street South, Nampa, ID 83651 | December 29, 2009 | 160038
Ohio:
Lucas | Unincorporated areas of Lucas County (09-05-4565P) | December 2, 2009, December 9, 2009, Toledo Blade | The Honorable Pete Gerken, Chairman, Lucas County Board of Commissioners, 1 Government Center, Suite 800, Toledo, OH 43604 | November 20, 2009 | 390359
Lucas | City of Toledo (09-05-4565P) | December 2, 2009, December 9, 2009, Toledo Blade | The Honorable Carleton S. Finkbeiner, Mayor, City of Toledo, 1 Government Center, 640 Jackson Street, Suite 2200, Toledo, OH 43604 | November 20, 2009 | 395373
South Carolina: York | Unincorporated areas of York County (09-04-4239P) | December 3, 2009, December 10, 2009, The Herald | The Honorable Houston O. “Buddy” Motz, Chairman, York County Council, 2047 Poinsett Drive, Rock Hill, SC 29732 | November 20, 2009 | 450193
Texas:
Dallas | Unincorporated areas of Dallas County (09-06-2480P) | December 4, 2009, December 11, 2009, Dallas Morning News | The Honorable Jim Foster, Dallas County Judge, 411 Elm Street, Suite 210, Dallas, TX 75202 | December 21, 2009 | 480165
Dallas | City of Wilmer (09-06-2480P) | December 4, 2009, December 11, 2009, Dallas Morning News | The Honorable Jeffery Steele, Mayor, City of Wilmer, 128 North Dallas Avenue, Wilmer, TX 75172 | December 21, 2009 | 480190
Fort Bend | City of Sugar Land (10-06-0050P) | November 26, 2009, December 3, 2009, Fort Bend Sun | The Honorable James A. Thompson, Mayor, City of Sugar Land, P.O. Box 110, Sugar Land, TX 77487 | April 2, 2010 | 480234
Fort Bend | First Colony L.I.D. (10-06-0050P) | November 26, 2009, December 3, 2009, Fort Bend Sun | Mr. Gary Knapp, Board president, First Colony L.I.D., c/o Allen Boone Humphries Robinson, LLP, 3200 Southwest Freeway, Suite 2600, Houston, TX 77027 | April 2, 2010 | 481583
Fort Bend | Unincorporated areas of Fort Bend County (10-06-0050P) | November 26, 2009, December 3, 2009, Fort Bend Sun | The Honorable Robert E. Hebert, PhD, Fort Bend County Judge, 301 Jackson Street, Richmond, TX 77469 | April 2, 2010 | 480228
Fort Bend | Unincorporated areas of Fort Bend County (09-06-0987P) | December 3, 2009, December 10, 2009, Fort Bend Sun | The Honorable Robert E. Hebert, Ph.D., Fort Bend County Judge, 301 Jackson Street, Richmond, TX 77469 | April 9, 2010 | 480228
Fort Bend | City of Missouri City, (09-06-0987P) | December 3, 2009, December 10, 2009, Fort Bend Sun | The Honorable Allen Owen, Mayor, City of Missouri City, 1522 Texas Parkway, Missouri, TX 77489 | April 9, 2009 | 480304
Harris | City of Pasadena (09-06-2867P) | December 2, 2009, December 9, 2009, Pasadena Citizen | The Honorable John Isbell, Mayor, City of Pasadena, 1211 Southmore Avenue, Pasadena, TX 77502 | November 30, 2009 | 480307
Utah: Washington | City of St. George (09-08-0868P) | December 4, 2009, December 11, 2009, The Spectrum | The Honorable Daniel D. McArthur, Mayor, City of St. George, 175 East 200 North, St. George, UT 84770 | April 12, 2010 | 490177

(Catalog of Federal Domestic Assistance No. 97.022, “Flood Insurance.”)

Dated: April 30, 2010.
Sandra K. Knight,
Deputy Federal Insurance and Mitigation Administrator, Mitigation, Department of Homeland Security, Federal Emergency Management Agency.

[FR Doc. 2010-12477 Filed 5-24-10; 8:45 am]

BILLING CODE 9110-12-P